DEPARTMENT OF TRANSPORTATION

Federal Aviation Administration

[Summary Notice No. PE-2004-81]

Petitons for Exemption; Dispositions of Petitions Issued

AGENCY: Federal Aviation Administration (FAA), DOT.

ACTION: Notice of dispositions of prior petitions.

SUMMARY: SUMMARY:

Pursuant to FAA's rulemaking provisions governing the application, processing, and disposition of petitions for exemption, part 11 of Title 14, Code of Federal Regulations (14 CFR), this notice contains the dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Annette Kovite, (425-227-1262), Transport Airplane Directorate (ANM-113), Federal Aviation Administration, 1601 Lind Ave SW., Renton, WA 98055-4056; or John Linsenmeyer (202-267-5174), Office of Rulemaking (ARM-1), Federal Aviation Administration, 800 Independence Avenue, SW., Washington, DC 20591.

This notice is published pursuant to 14 CFR 11.85 and 11.91.

Issued in Washington, DC, on October 22, 2004.
Dated: October 22, 2004.
Anthony F. Fazio,
Director, Office of Rulemaking.

Dispositions of Petitions

Docket No.: FAA-2003-16211.

Petitioner: AvCraft Aerospace GmbH.

Section of 14 CFR Affected: 14 CFR 25.1309(c).

Description of Relief Sought/Disposition: To permit operators of the Dornier Model 328-300 aircraft to use Reduced Thrust Takeoff Operations (RTTO) with an indication system that exhibits certain inconsistent flight phase indications in the event of an engine failure below 1000 ft.

Time Limited Partial Grant of Exemption, 02/04/2004, Exemption No. 8237

[FR Doc. 04-24144 Filed 10-27-04; 8:45 am]

BILLING CODE 4910-13-P